FEDERAL ELECTION COMMISSION

[Notice 2025-05]

Filing Dates for the Virginia Special Election in the 11th Congressional District

AGENCY: Federal Election Commission.

ACTION: Notice of filing dates for special election.

SUMMARY: Virginia has scheduled a special election on September 9, 2025, to fill the U.S. House of Representatives seat in the 11th Congressional District held by the late Representative Gerald E. Connolly.

DATES: Committees required to file reports in connection with the Special General Election on September 9, 2025, shall file a 12-day Pre-General and a 30-Day Post-General Report.

Political committees participating in the Virginia special general election are required to file pre- and post-election reports. The Commission is not requiring pre-election reports for candidates and committees involved in the special nominating caucuses due to time constraints.

ADDRESSES: 1050 First Street NE, Washington, DC 20463.

FOR FURTHER INFORMATION CONTACT: Mr. George J. Smaragdis, Information Division, (202) 694-1100 or (800) 424-9530, info@fec.gov.

SUPPLEMENTARY INFORMATION:

Principal Campaign Committees

All principal campaign committees of candidates who participate in the Virginia Special General Election shall file a 12-day Pre-General Report on August 28, 2025, and a 30-day Post-General Report on October 9, 2025. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the Virginia Special General Election by the close of books for the applicable report(s). (See charts below for the closing date for each report.)

Committees filing monthly that make contributions or expenditures in connection with the Virginia Special General Election will continue to file according to the monthly reporting schedule.

Additional disclosure information for the Virginia special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of $23,300 during the special election reporting periods. (See charts below for closing date of each period.) 11 CFR 104.22(a)(5)(v), (b), 110.17(e)(2), (f).

Calendar of Reporting Dates for Virginia Special Elections
Report | Close of books ¹ | Reg./cert. & overnight mailing deadline | Filing deadline
Campaign Committees Involved in the Special General (09/09/2025) Must File
Pre-General | 08/20/2025 | 08/25/2025 | 08/28/2025
Post-General | 09/29/2025 | 10/09/2025 | 10/09/2025
October Quarterly | —WAIVED—
Year-End | 12/31/2025 | 01/31/2026 | ² 01/31/2026
PACs and Party Committees Not Filing Monthly Involved in the Special General (09/09/2025) Must File
Pre-General | 08/20/2025 | 08/25/2025 | 08/28/2025
Post-General | 09/29/2025 | 10/09/2025 | 10/09/2025
Year-End | 12/31/2025 | 01/31/2026 | ² 01/31/2026
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed on paper by methods other than registered, certified or overnight mail must be received before the Commission's close of business on the last business day before the deadline.

On behalf of the Commission.
Dated: June 11, 2025.
James E. Trainor,
Acting Chairman, Federal Election Commission.

[FR Doc. 2025-11023 Filed 6-13-25; 8:45 am]

BILLING CODE 6715-01-P